ENVIRONMENTAL PROTECTION AGENCY

40 CFR Part 141

[EPA-HQ-OW-2013-0300; FRL-9818-2]

Expedited Approval of Alternative Test Procedures for the Analysis of Contaminants Under the Safe Drinking Water Act; Analysis and Sampling Procedures

Correction

In rule document 2013-12729, appearing on pages 32558-32574 in the issue of Friday, May 31, 2013, make the following correction:

PART 141—[CORRECTED]

Beginning on page 32570, with the table entitled “ALTERNATIVE TESTING METHODS FOR CONTAMINANTS LISTED AT 40 CFR 141.25(A)”, the tables are corrected to read as set forth below:

Alternative Testing Methods for Contaminants Listed at 40 CFR 141.25(a)
Contaminant | Methodology | SM 21st Edition ¹ | SM 22nd Edition ²⁸ | ASTM ⁴
Naturally Occurring:
Gross alpha and beta | Evaporation | 7110 B | 7110 B |
Gross alpha | Coprecipitation | 7110 C | 7110 C |
Radium 226 | Radon emanation | 7500-Ra C | 7500-Ra C | D3454-05
| Radiochemical | 7500-Ra B | 7500-Ra B | D2460-07
Radium 228 | Radiochemical | 7500-Ra D | 7500-Ra D |
Uranium | Radiochemical | 7500-U B | 7500-U B |
| ICP-MS | 3125 |  | D5673-05, 10
| Alpha spectrometry | 7500-U C | 7500-U C | D3972-09
| Laser Phosphorimetry |  |  | D5174-07
| Alpha Liquid Scintillation Spectrometry |  |  | D6239-09
Man-Made:
Radioactive Cesium | Radiochemical | 7500-Cs B | 7500-Cs B |
| Gamma Ray Spectrometry | 7120 | 7120 | D3649-06
Radioactive Iodine | Radiochemical | 7500-I B | 7500-I B | D3649-06
|  | 7500-I C | 7500-I C |
|  | 7500-I D | 7500-I D |
| Gamma Ray Spectrometry | 7120 | 7120 | D4785-08
Radioactive Strontium 89, 90 | Radiochemical | 7500-Sr B | 7500-Sr B |
Tritium | Liquid Scintillation | 7500-³H B | 7500-³H B | D4107-08
Gamma Emitters | Gamma Ray Spectrometry | 7120 | 7120 | D3649-06
|  | 7500-Cs B | 7500-Cs B | D4785-08
|  | 7500-I B | 7500-I B |

Alternative Testing Methods for Contaminants Listed at 40 CFR 141.74(a)(1)
Organism | Methodology | SM 21st Edition ¹ | SM 22nd Edition ²⁸ | Other
Total Coliform | Total Coliform Fermentation Technique | 9221 A, B, C | 9221 A, B, C |
| Total Coliform Membrane Filter Technique | 9222 A, B, C
| ONPG-MUG Test | 9223 | 9223 B |
Fecal Coliforms | Fecal Coliform Procedure | 9221 E | 9221 E |
| Fecal Coliform Filter Procedure | 9222 D | 9222 D |
Heterotrophic bacteria | Pour Plate Method | 9215 B | 9215 B |
Turbidity | Nephelometric Method | 2130 B | 2130 B |
| Laser Nephelometry (on-line) |  |  | Mitchell M5271 ¹⁰
| LED Nephelometry (on-line) |  |  | Mitchell M5331 ¹¹
| LED Nephelometry (on-line) |  |  | AMI Turbiwell ¹⁵
| LED Nephelometry (portable) |  |  | Orion AQ4500 ¹²

Alternative Testing Methods for Disinfectant Residuals Listed at 40 CFR 141.74(a)(2)
Residual | Methodology | SM 21st Edition ¹ | SM 22nd Edition ²⁸ | ASTM ⁴ | Other
Free Chlorine | Amperometric Titration | 4500-Cl D | 4500-Cl D | D 1253-08
| DPD Ferrous Titrimetric | 4500-Cl F | 4500-Cl F
| DPD Colorimetric | 4500-Cl G | 4500-Cl G
| Syringaldazine (FACTS) | 4500-Cl H | 4500-Cl H
| On-line Chlorine Analyzer |  |  |  | EPA 334.0 ¹⁶
| Amperometric Sensor |  |  |  | ChloroSense ¹⁷
Total Chlorine | Amperometric Titration | 4500-Cl D | 4500-Cl D | D 1253-08
| Amperometric Titration (Low level measurement) | 4500-Cl E | 4500-Cl E
| DPD Ferrous Titrimetric | 4500-Cl F | 4500-Cl F
| DPD Colorimetric | 4500-Cl G | 4500-Cl G
| Iodometric Electrode | 4500-Cl I | 4500-Cl I
| On-line Chlorine Analyzer |  |  |  | EPA 334.0 ¹⁶
| Amperometric Sensor |  |  |  | ChloroSense ¹⁷
Chlorine Dioxide | Amperometric Titration | 4500-ClO2 C | 4500-ClO2 C
| Amperometric Titration | 4500-ClO2 E | 4500-ClO2 E
Ozone | Indigo Method | 4500-O3 B | 4500-O3 B

Alternative Testing Methods for Contaminants Listed at 40 CFR 141.131(b)(1)
Contaminant | Methodology | EPA method | ASTM ⁴ | SM 21st Edition ¹ | SM 22nd Edition ²⁸
TTHM | P&T/GC/MS | 524.3 ⁹, 524.4 ²⁹
HAA5 | LLE (diazomethane)/GC/ECD |  |  | 6251 B | 6251 B.
| Ion Chromatography Electrospray Ionization Tandem Mass Spectrometry (IC-ESI-MS/MS) | 557 ¹⁴
Bromate | Two-Dimensional Ion Chromatography (IC) | 302.0 ¹⁸
| Ion Chromatography Electrospray Ionization Tandem Mass Spectrometry (IC-ESI-MS/MS) | 557 ¹⁴
| Chemically Suppressed Ion Chromatography |  | D 6581-08 A
| Electrolytically Suppressed Ion Chromatography |  | D 6581-08 B
Chlorite | Chemically Suppressed Ion Chromatography |  | D 6581-08 A
| Electrolytically Suppressed Ion Chromatography |  | D 6581-08 B
Chlorite—daily monitoring as prescribed in 40 CFR 141.132(b)(2)(i)(A) | Amperometric Titration |  |  | 4500-ClO2 E | 4500-ClO2 E.

Alternative Testing Methods for Disinfectant Residuals Listed at 40 CFR 141.131(c)(1)
Residual | Methodology | SM 21st Edition ¹ | SM 22nd Edition ²⁸ | ASTM ⁴ | Other
Free Chlorine | Amperometric Titration | 4500-Cl D | 4500-Cl D | D 1253-08
| DPD Ferrous Titrimetric | 4500-Cl F | 4500-Cl F
| DPD Colorimetric | 4500-Cl G | 4500-Cl G
| Syringaldazine (FACTS) | 4500-Cl H | 4500-Cl H
| Amperometric Sensor |  |  |  | ChloroSense.¹⁷
| On-line Chlorine Analyzer |  |  |  | EPA 334.0.¹⁶
Combined Chlorine | Amperometric Titration | 4500-Cl D | 4500-Cl D | D 1253-08
| DPD Ferrous Titrimetric | 4500-Cl F | 4500-Cl F
| DPD Colorimetric | 4500-Cl G | 4500-Cl G
Total Chlorine | Amperometric Titration | 4500-Cl D | 4500-Cl D | D 1253-08
| Low level Amperometric Titration | 4500-Cl E | 4500-Cl E
| DPD Ferrous Titrimetric | 4500-Cl F | 4500-Cl F
| DPD Colorimetric | 4500-Cl G | 4500-Cl G
| Iodometric Electrode | 4500-Cl I | 4500-Cl I
| Amperometric Sensor |  |  |  | ChloroSense.¹⁷
| On-line Chlorine Analyzer |  |  |  | EPA 334.0.¹⁶
Chlorine Dioxide | Amperometric Method II | 4500-ClO2 E | 4500-ClO2 E

* * * * *

Alternative Testing Methods for Parameters Listed at 40 CFR 141.131(d)
Parameter | Methodology | SM 21st Edition ¹ | SM 22nd Edition ²⁸ | EPA
Total Organic Carbon (TOC) | High Temperature Combustion | 5310 B | 5310 B | 415.3, Rev 1.2 ¹⁹
| Persulfate-Ultraviolet or Heated Persulfate Oxidation | 5310 C | 5310 C | 415.3, Rev 1.2 ¹⁹
| Wet Oxidation | 5310 D | 5310 D | 415.3, Rev 1.2 ¹⁹
Specific Ultraviolet Absorbance (SUVA) | Calculation using DOC and UV254 data |  |  | 415.3, Rev 1.2 ¹⁹
Dissolved Organic Carbon (DOC) | High Temperature Combustion | 5310 B | 5310 B | 415.3, Rev 1.2 ¹⁹
| Persulfate-Ultraviolet or Heated Persulfate Oxidation | 5310 C | 5310 C | 415.3, Rev 1.2 ¹⁹
| Wet Oxidation | 5310 D | 5310 D | 415.3, Rev 1.2 ¹⁹
Ultraviolet absorption at 254 nm (UV254) | Spectrophotometry | 5910 B | 5910 B | 415.3, Rev 1.2 ¹⁹

* * * * *

Alternative Testing Methods for Contaminants Listed at 40 CFR 141.402(c)(2)
Organism | Methodology | SM 20th Edition ⁶ | SM 21st Edition ¹ | SM 22nd Edition ²⁸ | SM Online ³ | Other
E. coli | Colilert® |  | 9223 B | 9223 B | 9223 B-97
| Colisure® |  | 9223 B | 9223 B | 9223 B-97
| Colilert-18 | 9223 B | 9223 B | 9223 B | 9223 B-97
| Readycult® |  |  |  |  | Ready cult® ²⁰
| Colitag |  |  |  |  | Modified Colitag™ ¹³
| Chromocult® |  |  |  |  | Chromo cult® ²¹
| EC-MUG |  |  | 9221 F
Enterococci | Multiple-Tube Technique |  |  |  | 9230 B-04
Coliphage | Two-Step Enrichment Presence-Absence Procedure |  |  |  |  | Fast Phage ³⁰

* * * * *

Alternative Testing Methods for Contaminants Listed at 40 CFR 141.852(a)(5)
Organism | Methodology category | Method | SM 22nd Edition ²⁸
Total Coliforms | Lactose Fermentation Methods | Standard Total Coliform Fermentation Technique | 9221 B.1, B.2
| Enzyme Substrate Methods | Colilert® | 9223 B
|  | Colisure® | 9223 B
Escherichia coli | Escherichia coli Procedure (following Lactose Fermentation Methods) | EC-MUG medium | 9221 F.1
| Enzyme Substrate Methods | Colilert® | 9223 B
|  | Colisure® | 9223 B

Alternative Testing Methods for Contaminants Listed at 40 CFR 143.4(b)
Contaminant | Methodology | EPA method | ASTM ⁴ | SM 21st Edition ¹ | SM 22nd Edition ²⁸ | SM online ³
Aluminum | Axially viewed inductively coupled plasma-atomic emission spectrometry (AVICP-AES) | 200.5, Revision 4.2²
| Atomic Absorption; Direct |  |  | 3111 D | 3111 D
| Atomic Absorption; Furnace |  |  | 3113 B | 3113 B | 3113 B-04
| Inductively Coupled Plasma |  |  | 3120 B | 3120 B
Chloride | Silver Nitrate Titration |  | D 512-04 B | 4500-Cl- B | 4500-Cl- B
| Ion Chromatography |  |  | 4110 B | 4110 B
| Potentiometric Titration |  |  | 4500-Cl- D | 4500-Cl- D
Color | Visual Comparison |  |  | 2120 B | 2120 B
Foaming Agents | Methylene Blue Active Substances (MBAS) |  |  | 5540 C | 5540 C
Iron | Axially viewed inductively coupled plasma-atomic emission spectrometry (AVICP-AES) | 200.5, Revision 4.2 ²
| Atomic Absorption; Direct |  |  | 3111 B | 3111 B
| Atomic Absorption; Furnace |  |  | 3113 B | 3113 B | 3113 B-04
| Inductively Coupled Plasma |  |  | 3120 B | 3120 B
Manganese | Axially viewed inductively coupled plasma-atomic emission spectrometry (AVICP-AES) | 200.5, Revision 4.2 ²
| Atomic Absorption; Direct |  |  | 3111 B | 3111 B
| Atomic Absorption; Furnace |  |  | 3113 B | 3113 B | 3113 B-04
| Inductively Coupled Plasma |  |  | 3120 B | 3120 B
Odor | Threshold Odor Test |  |  | 2150 B | 2150 B
Silver | Axially viewed inductively coupled plasma-atomic emission spectrometry (AVICP-AES) | 200.5, Revision 4.2 ²
| Atomic Absorption; Direct |  |  | 3111 B | 3111 B
| Atomic Absorption; Furnace |  |  | 3113 B | 3113 B | 3113 B-04
| Inductively Coupled Plasma |  |  | 3120 B | 3120 B
Sulfate | Ion Chromatography |  |  | 4110 B | 4110 B
| Gravimetric with ignition of residue |  |  | 4500-SO4 ²⁻ C | 4500-SO4 ²⁻ C | 4500-SO4 ²⁻ C-97
| Gravimetric with drying of residue |  |  | 4500-SO4 ²⁻ D | 4500-SO4 ²⁻ D | 4500-SO4 ²⁻ D-97
| Turbidimetric method |  | D 516-07, 11 | 4500-SO4 ²⁻ E | 4500-SO4 ²⁻ E | 4500-SO4 ²⁻ E-97
| Automated methylthymol blue method |  |  | 4500-SO4 ²⁻ F | 4500-SO4 ²⁻ F | 4500-SO4 ²⁻ F-97
Total Dissolved Solids | Total Dissolved Solids Dried at 180 deg C |  |  | 2540 C | 2540 C
Zinc | Axially viewed inductively coupled plasma-atomic emission spectrometry (AVICP-AES) | 200.5, Revision 4.2 ²
| Atomic Absorption; Direct Aspiration |  |  | 3111 B | 3111 B
| Inductively Coupled Plasma |  |  | 3120 B | 3120 B
¹ Standard Methods for the Examination of Water and Wastewater, 21st edition (2005). Available from American Public Health Association, 800 I Street NW., Washington, DC 20001-3710.
² EPA Method 200.5, Revision 4.2. “Determination of Trace Elements in Drinking Water by Axially Viewed Inductively Coupled Plasma-Atomic Emission Spectrometry.” 2003. EPA/600/R-06/115. (Available at http://www.epa.gov/nerlcwww/ordmeth.htm.)
³ Standard Methods Online are available at http://www.standardmethods.org. The year in which each method was approved by the Standard Methods Committee is designated by the last two digits in the method number. The methods listed are the only online versions that may be used.
⁴ Available from ASTM International, 100 Barr Harbor Drive, West Conshohocken, PA 19428-2959 or http://astm.org. The methods listed are the only alternative versions that may be used.
* * * * * * *
⁶ Standard Methods for the Examination of Water and Wastewater, 20th edition (1998). Available from American Public Health Association, 800 I Street NW., Washington, DC 20001-3710.
⁷ Method ME355.01, Revision 1.0. “Determination of Cyanide in Drinking Water by GC/MS Headspace,” May 26, 2009. Available at https://www.nemi.gov or from James Eaton, H & E Testing Laboratory, 221 State Street, Augusta, ME 04333. (207) 287-2727.
⁸ Systea Easy (1-Reagent). “Systea Easy (1-Reagent) Nitrate Method,” February 4, 2009. Available at https://www.nemi.gov or from Systea Scientific, LLC., 900 Jorie Blvd., Suite 35, Oak Brook, IL 60523.
⁹ EPA Method 524.3, Version 1.0. “Measurement of Purgeable Organic Compounds in Water by Capillary Column Gas Chromatography/Mass Spectrometry,” June 2009. EPA 815-B-09-009. Available at http://water.epa.gov/drink/.
¹⁰ Mitchell Method M5271, Revision 1.1. “Determination of Turbidity by Laser Nephelometry,” March 5, 2009. Available at https://www.nemi.gov or from Leck Mitchell, Ph.D., PE, 656 Independence Valley Dr., Grand Junction, CO 81507.
¹¹ Mitchell Method M5331, Revision 1.1. “Determination of Turbidity by LED Nephelometry,” March 5, 2009. Available at https://www.nemi.gov or from Leck Mitchell, Ph.D., PE, 656 Independence Valley Dr., Grand Junction, CO 81507.
¹² Orion Method AQ4500, Revision 1.0. “Determination of Turbidity by LED Nephelometry,” May 8, 2009. Available at https://www.nemi.gov or from Thermo Scientific, 166 Cummings Center, Beverly, MA 01915, http://www.thermo.com.
¹³ Modified Colitag ™ Method. “Modified Colitag ™ Test Method for the Simultaneous Detection of E. coli and other Total Coliforms in Water (ATP D05-0035),” August 28, 2009. Available at https://www.nemi.gov or from CPI International, 5580 Skylane Boulevard, Santa Rosa, CA 95403.
¹⁴ EPA Method 557. “Determination of Haloacetic Acids, Bromate, and Dalapon in Drinking Water by Ion Chromatography Electrospray Ionization Tandem Mass Spectrometry (IC-ESI-MS/MS),” September 2009. EPA 815-B-09-012. Available at http://water.epa.gov/drink/.
¹⁵ AMI Turbiwell, “Continuous Measurement of Turbidity Using a SWAN AMI Turbiwell Turbidimeter,” August 2009. Available at https://www.nemi.gov or from Markus Bernasconi, SWAN Analytische Instrumente AG, Studbachstrasse 13, CH-8340 Hinwil, Switzerland.
¹⁶ EPA Method 334.0. “Determination of Residual Chlorine in Drinking Water Using an On-line Chlorine Analyzer,” September 2009. EPA 815-B-09-013. Available at http://water.epa.gov/drink/.
¹⁷ ChloroSense. “Measurement of Free and Total Chlorine in Drinking Water by Palintest ChloroSense,” August 2009. Available at https://www.nemi.gov or from Palintest Ltd., 21 Kenton Lands Road, P.O. Box 18395, Erlanger, KY 41018.
¹⁸ EPA Method 302.0. “Determination of Bromate in Drinking Water using Two-Dimensional Ion Chromatography with Suppressed Conductivity Detection,” September 2009. EPA 815-B-09-014. Available at http://water.epa.gov/drink/.
¹⁹ EPA 415.3, Revision 1.2. “Determination of Total Organic Carbon and Specific UV Absorbance at 254 nm in Source Water and Drinking Water,” September 2009. EPA/600/R-09/122. Available at http://www.epa.gov/nerlcwww/ordmeth.htm.
²⁰ Readycult® Method, “Readycult® Coliforms 100 Presence/Absence Test for Detection and Identification of Coliform Bacteria and Escherichia coli in Finished Waters,” January, 2007. Version 1.1. Available from EMD Millipore (division of Merck KGaA, Darmstadt, Germany), 290 Concord Road, Billerica, MA 01821.
²¹ Chromocult® Method, “Chromocult® Coliform Agar Presence/Absence Membrane Filter Test Method for Detection and Identification of Coliform Bacteria and Escherichia coli in Finished Waters,” November, 2000. Version 1.0. EMD Millipore (division of Merck KGaA, Darmstadt, Germany), 290 Concord Road, Billerica, MA 01821.
²² Hach Company. “Hach Company SPADNS 2 (Arsenite-Free) Fluoride Method 10225—Spectrophotometric Measurement of Fluoride in Water and Wastewater,” January 2011. 5600 Lindbergh Drive, P.O. Box 389, Loveland, Colorado 80539. (Available at http://www.hach.com.)
²³ Hach Company. “Hach Company TNTplus™ 835/836 Nitrate Method 10206—Measurement of Nitrate in Water and Wastewater,” January 2011. 5600 Lindbergh Drive, P.O. Box 389, Loveland, Colorado. (Available at http://www.hach.com.)
²⁴ EPA Method 525.3. “Determination of Semivolatile Organic Chemicals in Drinking Water by Solid Phase Extraction and Capillary Column Gas Chromatography/Mass Spectrometry (GC/MS),” February 2012. EPA/600/R-12/010. Available at http://www.epa.gov/nerlcwww/ordmeth.htm.
²⁵ EPA Method 536. “Determination of Triazine Pesticides and their Degradates in Drinking Water by Liquid Chromatography Electrospray Ionization Tandem Mass Spectrometry (LC/ESI-MS/MS),” October 2007. EPA 815-B-07-002. Available at http://water.epa.gov/drink.
²⁶ EPA Method 523. “Determination of Triazine Pesticides and their Degradates in Drinking Water by Gas Chromatography/Mass Spectrometry (GC/MS),” February 2011. EPA 815-R-11-002. Available at http://water.epa.gov/drink.
²⁷ EPA Method 1623.1. “Cryptosporidium and Giardia in Water by Filtration/IMS/FA,” 2012. EPA-816-R-12-001. (Available at http://water.epa.gov/drink.)
²⁸ Standard Methods for the Examination of Water and Wastewater, 22nd edition (2012). Available from American Public Health Association, 800 I Street NW., Washington, DC 20001-3710.
²⁹ EPA Method 524.4, Version 1.0. “Measurement of Purgeable Organic Compounds in Water by Gas Chromatography/Mass Spectrometry using Nitrogen Purge Gas,” May 2013. EPA 815-R-13-002. Available at http://water.epa.gov/drink.
³⁰ Charm Sciences Inc. “Fast Phage Test Procedure. Presence/Absence for Coliphage in Ground Water with Same Day Positive Prediction”. Version 009. November 2012. 659 Andover Street, Lawrence, MA 01843. Available at www.charmsciences.com.

[FR Doc. C1-2013-12729 Filed 6-20-13; 8:45 am]

BILLING CODE 1505-01-D